DEPARTMENT OF COMMERCE

National Oceanic and Atmospheric Administration

15 CFR Part 902

50 CFR Part 300

[Docket No. 070717350-9936-02]

RIN 0648-AV63

International Fisheries; Western and Central Pacific Fisheries for Highly Migratory Species; Initial Implementation of the Western and Central Pacific Fisheries Convention; Correction

AGENCY: National Marine Fisheries Service (NMFS), National Oceanic and Atmospheric Administration (NOAA), Commerce.

ACTION: Final rule; correction.

SUMMARY: This action corrects the effective date of final regulations published in the Federal Register on January 21, 2010, from February 22, 2010, to April 21, 2010. The rule establishes regulations needed to carry out the obligations of the United States under the Convention on the Conservation and Management of Highly Migratory Fish Stocks in the Western and Central Pacific Ocean (Convention). The regulations include requirements related to permitting, vessel monitoring systems, vessel observers, vessel markings, reporting and recordkeeping, at-sea transshipment, and boarding and inspection on the high seas, among others. The rule will have the effect of requiring that all relevant U.S. fishing vessels are operated in conformance with the provisions of the Convention.

DATES: The effective date of the final regulations published in the Federal Register on January 21, 2010, at 75 FR 3335, is April 21, 2010.

FOR FURTHER INFORMATION CONTACT: Tom Graham, NMFS Pacific Islands Region, 808-944-2219.

SUPPLEMENTARY INFORMATION:

Need for Correction

In the document published January 21, 2010 (75 FR 3335), under the DATES section, the effective date of the final rule was erroneously stated as being February 22, 2010. This document corrects the effective date to read as follows:

DATES: This final rule is effective April 21, 2010.

Authority: 16 U.S.C. 5501 et seq; 16 U.S.C. 6901 et seq.

Dated: February 12, 2010.
Samuel D. Rauch III,
Deputy Assistant Administrator for Regulatory Programs, National Marine Fisheries Service.

[FR Doc. 2010-3277 Filed 2-18-10; 8:45 am]

BILLING CODE 3510-22-S